FEDERAL COMMUNICATIONS COMMISSION

Sunshine Act Meeting; Schedule Change To Open Commission Meeting, December 16, 2009

Date: December 14, 2009.

Please note that the time for the Federal Communications Commission Open Meeting is rescheduled from 10:00 a.m. to 11:00 a.m.

As stated in the Commission's Notice of December 9, 2009, the meeting will be held on Wednesday, December 16, 2009 in Room TW-C305, at 445 12th Street, S.W., Washington, D.C. and will feature a presentation on the status of the National Broadband Plan.

The prompt and orderly conduct of the Commission's business requires this change and no earlier announcement was practicable.

Federal Communications Commission.
Marlene H. Dortch,
Secretary,
Office of the Secretary,
Office of Managing Director.

[FR Doc. E9-30268 Filed 12-16-09; 4:15 pm]

BILLING CODE 6712-01-S